DEPARTMENT OF THE TREASURY

Office of Foreign Assets Control

Additional Identifying Information Associated With Persons Whose Property and Interests in Property Are Blocked Pursuant to Executive Order 13667 of May 12, 2014, “Blocking Property of Certain Persons Contributing to the Conflict in the Central African Republic”

AGENCY: Office of Foreign Assets Control, Treasury.

ACTION: Notice.

SUMMARY: The Treasury Department's Office of Foreign Assets Control (“OFAC”) is publishing additional identifying information associated with the five individuals listed in the Annex to Executive Order 13667 of May 12, 2014, “Blocking Property of Certain Persons Contributing to the Conflict in the Central African Republic,” whose property and interests in property are therefore blocked.

FOR FURTHER INFORMATION CONTACT: Assistant Director, Compliance Outreach & Implementation, Office of Foreign Assets Control, Department of the Treasury, 1500 Pennsylvania Avenue NW., (Treasury Annex), Washington, DC 20220, Tel.: 202/622-2490.

SUPPLEMENTARY INFORMATION:

Electronic and Facsimile Availability

This document and additional information concerning OFAC are available from OFAC's Web site (http://www.treasury.gov/about/organizational-structure/offices/Pages/Office-of-Foreign-Assets-Control.aspx) or via facsimile through a 24-hour fax-on-demand service, Tel.: 202/622-0077.

Background

On May 12, 2014, the President issued Executive Order 13667 “Blocking Property of Certain Persons Contributing to the Conflict in the Central African Republic” (the “Order”) pursuant to, inter alia, the International Emergency Economic Powers Act (50 U.S.C. 1701-06). The Order was effective at 12:01 a.m. eastern daylight time on May 13, 2014.

Section 1 of the Order blocks, with certain exceptions, all property and interests in property that are in the United States, that come within the United States, or that are or come within the possession or control of any United States person, of persons listed in the Annex to the Order and of persons determined by the Secretary of the Treasury, in consultation with the Secretary of State, to satisfy certain criteria set forth in the Order.

The Annex to the Order lists five individuals whose property and interests in property are blocked pursuant to the Order. OFAC is publishing additional identifying information associated with those individuals.

The listings for these individuals on OFAC's list of Specially Designated Nationals and Blocked Persons appear as follows:

Individuals

1. ADAM, Noureddine (a.k.a. ADAM, Nourreddine; a.k.a. ADAM, Nourredine; a.k.a. ADAM, Nourreldine; a.k.a. ADAM, Nureldine); DOB 1969 to 1971; POB Ndele, Central African Republic; nationality Central African Republic; General; Former Minister of Public Security (individual) [CAR].

2. BOZIZE, Francois (a.k.a. BOZIZE, Francois Yangouvonda; a.k.a. YANGOUVONDA, Bozize); DOB 14 Oct 1946; POB Gabon; Former President of the Central African Republic (individual) [CAR].

3. DJOTODIA, Michel (a.k.a. DJOTODIA, Michel Am-Nondroko), Benin; DOB 1949; POB Vakaga Region, Central African Republic; nationality Central African Republic (individual) [CAR].

4. MISKINE, Abdoulaye (a.k.a. KOUMTAMADJI, Martin Nadingar; a.k.a. NKOUMTAMADJI, Martin); DOB 05 Oct 1965; alt. DOB 03 Mar 1965; POB Kobo, Central African Republic; alt. POB Ndinaba, Chad; nationality Chad; General (individual) [CAR].

5. YAKITE, Levi (a.k.a. YAKETE, Levy; a.k.a. YAKITE, Levy), Cameroon; DOB 1965; anti-Balaka Political Coordinator (individual) [CAR].

Dated: May 15, 2014.
Barbara C. Hammerle,
Acting Director, Office of Foreign Assets Control.

[FR Doc. 2014-11972 Filed 5-22-14; 8:45 am]

BILLING CODE 4811-42-P